DEPARTMENT OF COMMERCE

National Oceanic and Atmospheric Administration

[I.D. 061804D]

Endangered and Threatened Species; Take of Anadromous Fish

AGENCY: National Marine Fisheries Service (NMFS), National Oceanic and Atmospheric Administration, Commerce

ACTION: Notice of availability and request for comment.

SUMMARY: NMFS has received an application from the Bonneville Power Administration (BPA) for a direct take permit pursuant to the Endangered Species Act of 1973, as amended (ESA). The permit would authorize take of ESA-listed anadromous fish species associated with monitoring of salmon and steelhead in Nason Creek, a tributary of the Wenatchee River in Washington. The duration of the proposed Permit is 5 years. This notice serves to notify the public of the receipt of the application and to give the public an opportunity to review and comment on the document. All comments received will become part of the public record and will be available for review pursuant to the ESA.

DATES: Written comments from interested parties on the Permit application must be received at the appropriate address or fax number (see ADDRESSES) no later than 5 pm Pacific daylight time on July 28, 2004.

ADDRESSES: Written comments on the application should be sent to Kristine Petersen, Salmon Recovery Division, F/NWR1, 525 NE Oregon Street, Suite 510, Portland, OR 97232 or faxed to (503) 872-2737. Comments on this draft EA may be submitted by e-mail. The mailbox address for providing e-mail comments is Nason.nwr@noaa.gov. Include in the subject line the following document identifier: “Nason Creek application”. Federal e-rulemaking portal: http:www.regulations.gov. The documents are also available on the Internet at www.nwr.noaa.gov/1sustfsh/10permits/. Requests for copies of the permit application should be directed to the Salmon Recovery Division, F/NWR1, 525 NE Oregon Street, Suite 510, Portland, OR 97232. Comments received will also be available for public inspection, by appointment, during normal business hours by calling (503) 230-5409.

FOR FURTHER INFORMATION CONTACT: Kristine Petersen, Portland, OR (ph: (503)230-5409, fax: (503)872-2737, e-mail: kristine.petersen@noaa.gov).

SUPPLEMENTARY INFORMATION: This notice is relevant to the following species and evolutionarily significant units (ESUs):

Steelhead (Oncorhynchus mykiss): endangered, naturally produced and artificially propagated Upper Columbia River (UCR).

Chinook salmon (O. tshawytscha): endangered, naturally produced and artificially propagated, UCR spring-run.

Background

Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species for scientific purposes or to enhance the propagation or survival of the species under section 10(a)(1)(A) of the ESA. NMFS regulations governing permits for threatened and endangered species are promulgated at 50 CFR 222.307.

Application Received

On May 20, 2004, the BPA submitted an application to NMFS for an ESA section 10(a)(1)(A) permit for the take of ESA-listed anadromous fish species associated with monitoring of salmon and steelhead in Nason Creek, a tributary of the Wenatchee River in Washington. The monitoring will enable collection of data to estimate natural and hatchery-origin production and productivity and other life history parameters, as well as to help evaluate the effects of supplementation programs in the Wenatchee River Basin.

This notice is provided pursuant to section 10(c) of the ESA. NMFS will evaluate the application, associated documents, and comments submitted thereon to determine whether the application meets the requirements of section 10(a)(1)(A) of the ESA. If it is determined that the requirements are met, a permit will be issued to the BPA for the monitoring actions in Nason Creek. NMFS will publish a record of its final action in the Federal Register.

Dated: June 22, 2004.
Phil Williams,
Chief, Endangered Species Division, Office of Protected Resources, National Marine Fisheries Service.

[FR Doc. 04-14624 Filed 6-25-04; 8:45 am]

BILLING CODE 3510-22-S